DEPARTMENT OF THE INTERIOR

Bureau of Land Management

[15XL LLIDT00000.L10100000.XG0000.LXSSD0540000 241A 4500075905]

Notice of Mailing/Street Address Change for the BLM-Idaho Twin Falls District Office, ID

AGENCY: Bureau of Land Management, Interior.

ACTION: Notice.

SUMMARY: The mailing/street address for the Bureau of Land Management (BLM), Twin Falls District Office will be changing from 2536 Kimberly Road, Twin Falls, Idaho 83301 to 2878 Addison Avenue East, Twin Falls, Idaho 83301.

The new Twin Falls District Office will consolidate several BLM offices in a new building. The new building will provide needed space for staff and operational support.

DATES: The date for the change will be on or about July 1, 2015.

FOR FURTHER INFORMATION CONTACT: Richard Alvarez, Lead Property Management Specialist, BLM Idaho State Office, 208-373-3916, ralvarez@blm.gov.

Persons who use a telecommunications device for the deaf (TDD) may call the Federal Information Relay Service (FIRS) at 1-800-877-8339 to leave a message or question for the above individual. The FIRS is available 24 hours a day, seven days a week. You will receive a reply during normal business hours.

Authority: Departmental Manual 382, chapter 2.1.

Timothy M. Murphy,
BLM Idaho State Director.

[FR Doc. 2015-05429 Filed 3-6-15; 8:45 am]

BILLING CODE 4310-GG-P